FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 19, 2019.

A. Federal Reserve Bank of Dallas (Robert L. Triplett III, Senior Vice President) 2200 North Pearl Street, Dallas, Texas 75201-2272:

1. Lone Star State Bancshares, Inc. and Subsidiaries Employee Stock Ownership Plan, Lubbock, Texas, Kirk Thomas and Melisa Roberts as trustees, both of Lubbock, Texas, and Brent Beakley, also as trustee, of Odessa, Texas; to acquire voting shares of Lone Star State Bancshares, Inc., and indirectly acquire Lone Star State Bank of West Texas, both of Lubbock, Texas.

Board of Governors of the Federal Reserve System, April 1, 2019.
Yao-Chin Chao,
Assistant Secretary of the Board.

[FR Doc. 2019-06587 Filed 4-3-19; 8:45 am]

BILLING CODE P